DEPARTMENT OF JUSTICE

Parole Commission

Sunshine Act Meeting

TIME AND DATE: 12:00 p.m., Tuesday, January 14, 2014.

PLACE: U.S. Parole Commission, 90 K Street NE., 3rd Floor, Washington, DC

STATUS: Closed.

MATTERS TO BE CONSIDERED: Determination on four original jurisdiction cases.

CONTACT PERSON FOR MORE INFORMATION: Patricia W. Moore, Staff Assistant to the Chairman, U.S. Parole Commission, 90 K Street NE., 3rd Floor, Washington, DC 20530, (202) 346-7001.

Dated: January 6, 2014.
J. Patricia W. Smoot,
Acting General Counsel, U.S. Parole Commission.

[FR Doc. 2014-00168 Filed 1-6-14; 4:15 pm]

BILLING CODE 4410-31-P